Title 3—

The President

Proclamation 7809 of September 10, 2004

National Alcohol and Drug Addiction Recovery Month, 2004

By the President of the United States of America

A Proclamation

Across our country, millions of Americans suffer from the debilitating effects of alcohol and drug abuse. Substance abuse shatters lives, divides families, and robs people of their promise and potential.

My Administration is confronting these dangers. We are pursuing an ambitious, focused strategy to cut demand for drugs at home, disrupt supplies abroad, and ensure that citizens living with addiction get the treatment they need. We have made progress in fighting substance abuse, but there is more to do.

One of the worst decisions our children can make is to endanger their lives and their futures with alcohol or drugs. My Administration is addressing this problem with a strategy of education, treatment, and law enforcement. We also support random student drug testing as a prevention tool. We are seeing the results of all of these efforts, as more of our young people are also choosing to avoid alcohol and drugs. Drug use among youth has declined by 11 percent from 2001 to 2003.

My Administration is committed to expanding the choice of service providers for those struggling with addiction. We recognize the success of faith-based and community approaches in which caring citizens join together to offer alternatives to traditional treatment, helping people change habits by changing their hearts. Through the Access to Recovery initiative, we have provided an additional $100 million in new grants this year to expand options for substance abuse treatment and recovery support services through vouchers, which allow individuals to choose the services that best meet their recovery needs. In my 2005 budget, I have proposed doubling funding for this initiative to further expand treatment. In total, I have requested $3.7 billion for drug treatment and research programs for 2005, an increase of about 25 percent since 2001.

The struggle against substance abuse is a community effort, and this month is an opportunity to further raise awareness and support the fight against the destructive cycle of addiction. I call on all Americans to make responsible and healthy choices so that everyone can realize the great promise of our Nation.

NOW, THEREFORE, I, GEORGE W. BUSH, President of the United States of America, by virtue of the authority vested in me by the Constitution and laws of the United States, do hereby proclaim September 2004 as National Alcohol and Drug Addiction Recovery Month. I call upon the people of the United States to observe this month with appropriate programs, ceremonies, and activities.

IN WITNESS WHEREOF, I have hereunto set my hand this tenth day of September, in the year of our Lord two thousand four, and of the Independence of the United States of America the two hundred and twenty-ninth.

B

[FR Doc. 04-20948

Filed 9-14-04; 9:09 am]

Billing code 3195-01-P